DEPARTMENT OF TRANSPORTATION

Federal Aviation Administration

FAA Notice of Intent to Prepare an Environmental Assessment; Ann Arbor Municipal Airport, Ann Arbor, MI

AGENCY: The Federal Aviation Administration, Department of Transportation.

ACTION: Notice of Intent to prepare an Environmental Assessment (EA) and conduct Citizen Advisory Meetings.

SUMMARY: The FAA has delegated selected responsibilities for compliance with the National Environmental Policy Act to the MDOT as part of the State Block Grant Program authorized under Title 49 U.S.C., Section 47128. This notice is to advise the public pursuant to the National Environmental Policy Act of 1969, as amended, (NEPA) 42 U.S.C. 4332(2)(c) that MDOT intends to prepare an EA for the proposed extension of runway 6/24 at the Ann Arbor Municipal Airport. While not required for an EA, the FAA and MDOT are issuing this Notice of Intent to facilitate public involvement. This EA will assess the potential environmental impacts resulting from the proposed extension of runway 6/24 from 3,500 feet to 4,300 feet. All reasonable alternatives will be considered including a no action alternative.

FOR FURTHER INFORMATION CONTACT: Ms. Molly Lamrouex, Environmental Specialist, Bureau of Aeronautics and Freight Services, MDOT, 2700 Port Lansing Road, Lansing, Michigan (517) 335-9866.

SUPPLEMENTARY INFORMATION: The EA will include analysis which will be used to evaluate the potential environmental impacts in the study area. During scoping, and upon publication of a draft EA and a final EA, MDOT will be coordinating with federal, state and local agencies, as well as the public, to obtain comments and suggestions regarding the EA for the proposed project. The EA will assess potential impacts and reasonable alternatives including a no action alternative pursuant to NEPA; FAA Order 1050.1E, Policies and Procedures for Considering Environmental Impacts; FAA Order 5050.4B, National Environmental Policy Act (NEPA) Implementing Instructions for Airport Actions; and the President's Council on Environmental Quality (CEQ) Regulations implementing the provisions of NEPA, and other appropriate Agency guidance.

Public Input Process: During development of the draft EA, a series of meetings to provide for public input will be held to identify potentially significant issues or impacts related to the proposed action that should be analyzed in the EA. For more information regarding the meetings for public input contact Molly Lamrouex, MDOT Bureau of Aeronautics and Freight Services, (517) 335-9866.

Issued in Romulus, Michigan, June 4, 2009.
Matthew J. Thys,
Manager, Detroit Airports District Office, Great Lakes Region.

[FR Doc. E9-14167 Filed 6-16-09; 8:45 am]

BILLING CODE 4910-13-P